DEPARTMENT OF AGRICULTURE

Rural Utilities Service

7 CFR Part 1714

Pre-Loan Policies and Procedures for Insured Electric Loans

AGENCY: Rural Utilities Service, USDA.

ACTION: Final rule.

SUMMARY: This final rule revises the manner in which the Rural Utilities Service (RUS) notifies Borrowers of the schedule of interest rates for municipal rate loans. RUS will post the quarterly interest rates for municipal rate loans on the RUS website at the beginning of each calendar quarter to allow for a quicker notification of the municipal interest rates to RUS Borrowers.

EFFECTIVE DATE: April 9, 2002.

FOR FURTHER INFORMATION CONTACT: Gail P. Salgado, Management Analyst, Policy Analysis and Loan Management Staff, Rural Utilities Service, U.S. Department of Agriculture, STOP 1560, 1400 Independence Ave., SW., Washington, DC 20250-1522.

SUPPLEMENTARY INFORMATION: The Rural Utilities Service is making this change to the Electric Program's procedure for publishing interest rates for municipal rate loans to minimize the administrative burden and allow for a quicker notification of the municipal interest rates to RUS Borrowers.

Since formulation of procedures for municipal rate loans, RUS has published the interest rates for municipal rate loans quarterly in the Federal Register, and more recently in both the Federal Register and on the RUS website. Electronic notification of the interest rates for municipal rate loans allows RUS Borrowers immediate access to the quarterly municipal loan interest rates. RUS municipal loan interest rates can be found on the RUS Web site, http://www.usda.gov/rus/electric/.

The administrative changes being made will enable RUS to post interest rates for municipal rate loans on the RUS website, Electric Program HomePage, not later than the beginning of each calendar quarter.

This rule relates to agency procedures and, therefore, pursuant to 5 U.S.C. 553, notice of proposed rule making and opportunity for comment are not required. Further, since this rule relates to agency procedures, it is exempt from the provisions of Executive Order Nos. 12866 and 12988. This action will not have an effect on a substantial number of small businesses and thus, is exempt from the provisions of the Regulatory Flexibility Act (5 U.S.C. 601 et seq.).

List of Subjects in 7 CFR Part 1714

Electric power, Loan programs-energy, Rural areas.

For the reasons set forth in the preamble, chapter XVII of title 7 of the Code of Federal Regulations, is amended as follows:

PART 1714—GENERAL INFORMATION

1. The authority citation for part 1714 is revised to read as follows:

Authority: 7 U.S.C. 901 et seq.; 1921 et seq.; and 6941 et seq.

Subpart A—General

2. Amend § 1714.5 by revising the first sentence in paragraph (a) to read as follows:

§ 1714.5 Determination of interest rates on municipal rate loans.

(a) RUS will post on the RUS website, Electric Program HomePage, a schedule of interest rates for municipal rate loans at the beginning of each calendar quarter.* * *

* * * * *

Dated: March 13, 2002.
Hilda Gay Legg,
Administrator, Rural Utilities Service.

[FR Doc. 02-8546 Filed 4-8-02; 8:45 am]

BILLING CODE 3410-15-P